FEDERAL COMMUNICATIONS COMMISSION

47 CFR Part 73

[DA 04-2393; MB Docket No. 04-113, RM-10923; MB Docket No. 04-114, RM-10924, 10925; MB Docket No. 04-116, RM-10927; MB Docket No. 04-118, RM-10929; MB Docket No. 04-119, RM-10930; MB Docket No. 04-120, RM-10931, MB Docket No. 04-121, RM-10932; MB Docket No. 04-122, RM-10933, RM-10934; MB Docket No. 04-123, RM-10935; MB Docket No. 04-125, RM-10940]

Radio Broadcasting Services; Amherst, NY, Berthold, ND, Cordell, OK, Dillsboro, NC, Hubbardston, MI, Laurie, MO, Madras, OR, Weatherford, OK, West Tisbury, MA, Wynnewood, OK

AGENCY: Federal Communications Commission.

ACTION: Final rule.

SUMMARY: The Audio Division grants ten reservation proposals requesting to amend the FM Table of Allotments by reserving certain vacant FM allotments for noncommercial educational use in Amherst, NY, Berthold, ND, Cordell, OK, Dillsboro, NC, Hubbardston, MI, Laurie, MO, Madras, OR, Weatherford, OK, West Tisbury, MA, Wynnewood, OK. See 69 FR 26353, published May 12, 2004. At the request of Starboard Media Foundation, Inc., the Audio Division grants a petition requesting to reserve vacant Channel 282A at West Tisbury, Massachusetts for noncommercial educational use. The reference coordinates for Channel *282A at West Tisbury are 41-22-52 North Latitude and 70-40-30 West Longitude. At the request of Living Proof, Inc. and Lansing Community College, the Audio Division grants petitions requesting to reserve vacant Channel 279A at Hubbardston, Michigan for noncommercial educational use. The reference coordinates for Channel *279A at Hubbardston are 43-5-53 North Latitude and 84-51-54 West Longitude. At the request of American Family Association, the Audio Division grants a petition requesting to reserve vacant Channel 265C3 at Laurie, Missouri for noncommercial educational use. The reference coordinates for Channel *265C3 at Laurie are 38-8-30 North Latitude and 92-50-37 West Longitude. See Supplementary Information, infra.

DATES: Effective September 13, 2004.

ADDRESSES: Federal Communications Commission, 445 Twelfth Street, SW., Washington, DC 20554.

FOR FURTHER INFORMATION CONTACT: Rolanda F. Smith, Media Bureau, (202) 418-2180.

SUPPLEMENTARY INFORMATION: This is a synopsis of the Commission's Report and Order, MB Docket Nos. 04-113, 04-114, 04-116, 04-118, 04-119, 04-120, 04-121, 04-122, 04-123, 04-125 adopted July 28, 2004 and released July 30, 2004. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160, or via e-mail http://www.BCPIWEB.com. The Commission will send a copy of this Report and Order in a report to be sent to Congress and the General Accounting Office pursuant to the Congressional Review Act, see 5 U.S.C. 801(a)(1)(A).

At the request of Starboard Media Foundation, Inc., the Audio Division grants a petition requesting to reserve vacant Channel 237A at Dillsboro, North Carolina for noncommercial educational use. The reference coordinates for Channel *237A at Dillsboro are 35-15-56 North Latitude and 83-9-16 West Longitude. At the request of Starboard Media Foundation, Inc., the Audio Division grants a petition to reserve vacant Channel 264C at Berthold, North Dakota for noncommercial educational use. The reference coordinates for Channel *264C at Berthold are 48-18-54 North Latitude and 101-44-22 West Longitude. At the request of Youngshine Media, Inc., the Audio Division grants a petition requesting to reserve vacant Channel 221A at Amherst, New York for noncommercial educational use. The reference coordinates for Channel *221A at Amherst are 42-58-42 North Latitude and 78-48-0 West Longitude. At the request of Great Plains Christian Radio, Inc., the Audio Division grants a petition requesting to reserve vacant Channel 229A at Cordell, Oklahoma for noncommercial educational use. The reference coordinates for Channel *229A at Cordell are 35-17-24 North Latitude and 98-59-24 West Longitude. At the request of Great Plains Christian Radio, Inc. and University of Oklahoma, the Audio Division grants petitions requesting to reserve vacant Channel 286A at Weatherford, Oklahoma for noncommercial educational use. The reference coordinates for Channel *286A at Weatherford are 35-33-2 North Latitude and 98-43-59 West Longitude. At the request of Sister Sherry Lynn Foundation, Inc., the Audio Division grants a petition requesting to reserve vacant Channel 283A at Wynnewood, Oklahoma for noncommercial educational use. The reference coordinates for Channel *283A at Wynnewood are 34-38-42 North Latitude and 97-10-0 West Longitude. At the request of Radio Bilingue, Inc., the Audio Division grants a petition requesting to reserve vacant Channel 251C1 at Madras, Oregon for noncommercial educational use. The reference coordinates for Channel *251C1 at Madras are 44-50-2 North Latitude and 120-45-55 West Longitude.

List of Subjects in 47 CFR Part 73

Radio, Radio broadcasting.

For the reasons discussed in the preamble, the Federal Communications Commission amends 47 CFR Part 73 as follows:

PART 73—RADIO BROADCAST SERVICES

1. The authority citation for part 73 continues to read as follows:

Authority: 47 U.S.C. 154, 303, 334 and 336.

§ 73.202 [Amended]

2. Section 73.202(b), the Table of FM Allotments under Massachusetts, is amended by adding Channel *282A and by removing Channel 282A at West Tisbury.

3. Section 73.202(b), the Table of FM Allotments under Michigan, is amended by adding Channel *279A and by removing Channel 279A at Hubbardston.

4. Section 73.202(b), the Table of FM Allotments under Missouri, is amended by adding Channel *265C3 and by removing Channel 265C3 at Laurie.

5. Section 73.202(b), the Table of FM Allotments under North Carolina, is amended by adding Channel *237A and by removing Channel 237A at Dillsboro.

6. Section 73.202(b), the Table of FM Allotments under North Dakota, is amended by adding Channel *264C and by removing Channel 264C at Berthold.

7. Section 73.202(b), the Table of FM Allotments under New York, is amended by adding Channel *221A and by removing Channel 221A at Amherst.

8. Section 73.202(b), the Table of FM Allotments under Oklahoma, is amended by adding Channel *229A and by removing Channel 229A at Cordell; by adding Channel *286A and by removing Channel 286A at Weatherford; by adding Channel *283A and by removing Channel 283A at Wynnewood.

9. Section 73.202(b), the Table of FM Allotments under Oregon, is amended by adding Channel *251C1 and by removing Channel 251C1 at Madras.

Federal Communications Commission.
John A. Karousos,
Assistant Chief, Audio Division, Media Bureau.

[FR Doc. 04-18466 Filed 8-19-04; 8:45 am]

BILLING CODE 6712-01-P